DEPARTMENT OF HEALTH AND HUMAN SERVICES

Centers for Disease Control and Prevention

[Program Announcement 03147]

Improving HIV/AIDS/STI/TB Prevention and Control Activities in the Ethiopian Federal Democratic Republic Ministry of Health; Notice of Intent to Fund Single Eligibility Award

A. Purpose

The Centers for Disease Control and Prevention (CDC) announces the intent to fund fiscal year (FY) 2003 funds for a cooperative agreement program for improving prevention and control of Human Immunodeficiency Virus/Acquired Immunodeficiency Syndrome/ other Sexually Transmitted Infections/Tuberculosis (HIV/AIDS/STI/TB) in the Ethiopian Federal Democratic Republic Ministry of Health (MOH). The Catalog of Federal Domestic Assistance number for this program is 93.941.

B. Eligible Applicant

Assistance will be provided only to the MOH. The MOH is the only appropriate and qualified organization to conduct specific set of activities supportive of the CDC GAP technical assistance to Ethiopia. The MOH has been mandated by the Ethiopian Government to provide leadership in the provision of health care to the country of Ethiopia; the MOH is uniquely positioned, in terms of legal authority, ability, and credibility to work in the area of HIV/AIDS/STI/TB prevention and control; the MOH is the only organization capable of conducting and coordinating national HOV/AIDS/STI/TB surveillance; and the MOH is the primary partner of CDC/Ethiopia for HIV/AIDS/STI/TB activities in Ethiopia.

C. Funding

Approximately $100,000 is available in FY 2003 to fund this award. It is expected that the award will begin on or before September 15, 2003, and will be made for a 12-month budget period within a project period of up to five years. Funding estimate may change.

D. Where to Obtain Additional Information

For general comments or questions about this announcement, contact:

Technical Information Management, CDC Procurement and Grants Office, 2920 Brandywine Road, Atlanta, GA 30341-4146, Telephone: 770-488-2700.

For technical questions about this program, contact:

Tadesse Wuhib, Country Director, CDC-Ethiopia, P.O. Box 1014, Entoto Road, Addis Ababa, Telephone: (Office) 251-1-66-95-51; (Cell) 251-9-228543, e-mail address: wuhibt@etcdc.com.

Dated: August 14, 2003.
Sandra R. Manning,
Director, Procurement and Grants Office, Centers for Disease Control and Prevention.

[FR Doc. 03-21266 Filed 8-19-03; 8:45 am]

BILLING CODE 4163-18-P